FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because final or modified base flood elevations are required by the Flood Disaster Protection Act of 1973, 42 U.S.C. 4104, and are required to establish and maintain community eligibility in the National Flood Insurance Program. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
DELAWARE
New Castle County (Unincorporated Areas (FEMA Docket No. 7303)
Unnamed Tributary to Mill Creek:
Just upstream of Loblolly Court | *267
Approximately 870 feet upstream of Loblolly Court | *281
Maps available for inspection at the New Castle Government Center, 87 Reads Way, New Castle, Delaware.
NEW YORK
Peru (Town), Clinton County (FEMA Docket No. 7307)
Ausable River:
Approximately 0.59 mile downstream of U.S. Route 9 | *103
Approximately 0.83 mile upstream of U.S. Route 9 | *116
Little Ausable River:
Upstream side of Delaware and Hudson Railroad bridge | *103
Downstream side of Jarvis Road | *321
Silver Stream:
Approximately 320 feet downstream of U.S. Route 9 | *103
Downstream side of I-87 Northbound | *185
Button Brook:
At confluence with Little Ausable River | *284
Downstream side of Peasleeville Road | *366
Maps available for inspection at the Peru Town Hall, 3036 Main Street, Peru, New York.
NORTH CAROLINA
Clayton (Town), Johnston County (FEMA Docket No. 7303)
Little Creek:
Approximately 1,000 feet downstream of Ranch Road (State Route 1560) | *197
Just downstream of Robertson Street (State Highway 1552) | *250
Maps available for inspection at the Clayton Town Hall, Planning Department, 231 East 2nd Street, Clayton, North Carolina.
———
Johnston County (Unincorporated Areas) (FEMA Docket No. 7303)
Little Creek:
At confluence with Swift Creek | *156
Approximately 1,000 feet downstream of Ranch Road (State Route 1560) | *197
Swift Creek:
Approximately 0.4 mile downstream of confluence of Little Creek | *154
At Wake County line | *203
Poplar Creek:
Approximately 700 feet downstream of Wilson Mills Road (State Route 1913) | *129
Approximately 2,000 feet downstream of Twin Oak Drive | *178
Unnamed Tributary #1 to Swift Creek:
At the confluence of Swift Creek | *193
At the Wake County line | *218
Unnamed Tributary #2 to Swift Creek:
At the confluence with Swift Creek | *178
Just upstream of Cornwallis Road (State Route 1552) | *262
White Oak Creek:
At the confluence with Swift Creek | *187
At the Wake County line | *223
Little Poplar Creek:
At the confluence with Poplar Creek | *141
Approximately 100 feet upstream from U.S. Highway 70 | *247
Maps available for inspection at the Johnson County GIS Department, 207 East Johnston Street, Smithfield, North Carolina.
———
Wilson's Mills (Town), Johnston County (FEMA Docket No. 7303)
Poplar Creek:
Approximately 0.76 mile downstream of Twin Oak Drive | *170
Corporate limits to Swift Creek Road | *196
Maps available for inspection at the Wilson's Mills Town Hall, 22 Fire Department Road, Wilson's Mills, North Carolina.
OHIO
Harbor View (Village), Lucas County (FEMA Docket No. 7295)
Maumee Bay: Approximately 300 feet east of the intersection of Autokee Street and Lakeview Avenue | *579
Maps available for inspection at the Harbor View Village Hall, 327 Lakeview Drive, Harbor View, Ohio.
———
Holland (Village), Lucas County (FEMA Docket Nos. 7227 and 7295)
Drennan Ditch:
At confluence with Wolf Creek | *619
At Village corporate limits | *634
Wolf Creek:
Approximately 1,200 feet downstream of Holloway Road | *617
Approximately 700 feet upstream of Holloway Road | *620
Maps available for inspection at the Village of Holland Municipal Building, 1245 Clarion, Holland, Ohio.
———
Oregon (City), Lucas County (FEMA Docket No. 7295)
Maumee Bay: Approximately 1,300 feet northwest of the intersection of Alabama Street and Mississippi Street | *580
Lake Erie: At the intersection of Norden Road and Jacobs Road | *579
Maps available for inspection at the City of Oregon Building and Zoning Inspection Department, 5330 Seaman Road, Oregon, Ohio.
———
Sylvania (City), Lucas County (FEMA Docket No. 7227)
Schrieber Ditch:
Approximately 850 feet downstream of Centennial Road | *673
Downstream side of Centennial Road | *676
Maps available for inspection at the City of Sylvania Administration Building/Services Department, 6730 Monroe Street, Suite 101, Sylvania, Ohio.
———
Toledo (City), Lucas County (FEMA Docket Nos. 7227 and 7295)
Ottawa River:
At the City of Toledo corporate limits | *580
At CSX Transportation | *580
Swan Creek:
At the confluence with Maumee River | *580
Approximately 105 feet upstream of Monroe Street | *580
Maumee River:
At the confluence with Maumee Bay | *580
Approximately 0.6 mile downstream of the corporate limits | *581
Maumee Bay: Entire coastline within the City of Toledo | *580
Otter Creek:
Upstream side of Taylor Road | *585
Downstream side of Seaman Street | *585
Haefner Ditch:
Approximately 330 feet upstream of Holland-Sylvania Road | *634
Approximately 0.5 mile upstream of Holland-Sylvania Road | *638
Hill Ditch:
Upstream side of Elmer Drive | *627
Approximately 600 feet upstream of Orchard Hills Boulevard | *637
Delaware Creek:
Confluence with Maumee River | *581
Approximately 30 feet downstream of Rohr Road | *581
Maps available for inspection at the City of Toledo Division of Building Inspection, One Government Center, Suite 1600, Toledo, Ohio.
———
Waterville (Village), Lucas County (FEMA Docket No. 7227)
Maumee River:
Approximately 0.8 mile upstream of Dutch Road | *607
Approximately 1.2 miles upstream of Forst Road | *624
Maps available for inspection at the Waterville Village Hall, 25 North Second Street, Waterville, Ohio.
———
Whitehouse (Village), Lucas County (FEMA Docket No. 7295)
Lone Oak Ditch:
Just downstream of Whitehouse-Spencer Road | *645
Just upstream of Waterville Street | *655
Maps available for inspection at the Village of Whitehouse Zoning and Building Department, 6655 Providence Street, Whitehouse, Ohio.
PENNSYLVANIA
Delaware Water Gap (Borough), Monroe County (FEMA Docket No. 7303)
Delaware River:
Approximately 1.2 miles downstream of Interstate 80 | *313
Approximately 500 feet downstream of confluence with Cherry Creek | *321
Maps available for inspection at the Delaware Water Gap Borough Office, 49 Main Street, Delaware Water Gap, Pennsylvania.

(Catalog of Federal Domestic Assistance No. 83.100, “Flood Insurance”)

Dated: May 16, 2000.
Michael J. Armstrong,
Associate Director for Mitigation.

[FR Doc. 00-14294 Filed 6-20-00; 8:45 am]

BILLING CODE 6718-04-P